SMALL BUSINESS ADMINISTRATION

Announcement of “America's Seed Fund” Logo Design Competition for the Small Business Innovation Research (SBIR) and Small Business Technology Transfer (STTR) Programs

AGENCY: U.S. Small Business Administration.

ACTION: Notice.

SUMMARY: The U.S. Small Business Administration (SBA) announces the “America's Seed Fund” Logo Design Competition, pursuant to the America Competes Act, to encourage artists and designers to create a thoughtful and imaginative visual representation of the government's largest innovation effort focused on research-driven, innovative and cutting-edge small businesses through the Small Business Innovation Research (SBIR) and Small Business Technology Transfer (STTR) Programs.

DATES: The submission period for entries begins 12:00 p.m. EDT, May 4, 2015 or when this notice is published if a later date and ends May 29, 2015 at 11:59 p.m. EDT. The winning contestant will be announced and the winning design will be unveiled during a White House ceremony on June 15, 2015. The winning contestant will be notified in advance of the public announcement.

FOR FURTHER INFORMATION CONTACT: Nagesh Rao, Chief Technologist, Office of Investment and Innovation, U.S. Small Business Administration, 409 Third Street SW., 6th Floor, Washington, DC 20416, (202) 205-7576, sbirlogochallenge@sba.gov.

SUPPLEMENTARY INFORMATION:

Competition Details:

1. Subject of Competition: The SBA is seeking a new design to be used as the official logo of the SBIR/STTR Programs and the recently redesigned Web site https://www.sbir.gov/. The SBIR/STTR Programs are extremely competitive and encourage small businesses to engage in federally funded research and development (R&D) through eleven Federal agencies with R&D needs. SBIR/STTR awards enable small businesses to explore their technological potential, stimulate innovation to meet federal R&D needs, and potentially profit from private-sector commercialization of developed technologies. Since inception in 1982, 150,000 awards totaling $40 billion have been awarded to the small firms that participate. The programs touch, catalyze and seed the creation of STEM driven innovations in industries critical to the nation's long term competitiveness and growth—from nanotech to robotics to mobile communications to genetic therapies to clean energy to advanced weapons to space exploration. Many of today's technology giants—or their underlying technological components—received seed funding through SBIR or STTR awards via the eleven participating Federal agencies; the Environmental Protection Agency, the National Aeronautics and Space Administration, the National Science Foundation and the U.S. Departments of Agriculture, Commerce, Defense, Education, Energy, Health and Human Services, Homeland Security and Transportation. (Visit the sbir.gov Web site at https://www.sbir.gov/ for more information.) The new logo will serve as the official logo for the SBIR/STTR Programs to be used for promotional and educational information, including but not limited to, the Programs' Web site, SBA's Web site, participating Federal agency Web sites, conferences, events, television, print, and other media outlets. The winning logo is intended to premiere at the 2015 Tibbetts Awards ceremony on June 15, 2015, and be highlighted at the National SBIR Conference, June 15-17, 2015.

2. Eligibility Rules for Participating in the Competition: To be eligible to win a prize under this Logo Design Competition, you—

(a) Must register to participate in the competition under the link designated for that purpose by SBA on challenge.gov;

(b) Must comply with all the requirements under this notice and the America Competes Act of 2010 (Pub. L. 111-358);

(c) Must be a citizen or permanent resident of the United States before the submission period ends;

(d) May not be a Federal employee acting within the scope of your employment; and,

(e) May not be an entity with an outstanding, unresolved financial obligation to, or that is currently suspended or debarred by, the Federal government.

If you are under 18 years of age, you must have the permission of a parent or legal guardian to participate. If you are a Federal grantee, you may not use Federal funds to develop applications for this competition unless such use is consistent with the purpose of your grant award. If you are a Federal contractor, you may not use Federal funds from a contract to develop or fund efforts in support of applications for this competition. You may use Federal facilities or consult with Federal employees during the competition if the facilities and employees are made available to all contestants participating in the competition on an equitable basis.

3. Registration Process for Participants: Design competition participants must submit their “America's Seed Fund” Logo Designs online using the link designated for that purpose on challenge.gov, either by filtering search criteria to “Small Business Administration” or going to https://www.sbir.gov/, where the link will be posted. SBA will accept logo design competition submissions only through challenge.gov.

Things to keep in mind as you design your “America's Seed Fund” Logo:

(a) Translating the common programmatic elements of the SBIR and STTR programs—to support scientific excellence and technological innovation through the investment of Federal research funds in critical American priorities to build a strong national economy . . . one small business at a time. (For more information about the SBIR and STTR Programs, visit the Web site at https://www.sbir.gov/.);

(b) Reflecting the importance of the SBIR/STTR Programs in an insightful and ultimately innovative manner; and,

(c) Evoking through imagery thoughts related to words such as—Innovation, Inventions, High-Tech, Cutting Edge, Technology, Startups, Seed Money, STEM driven, Angel Funding, Seeding Ideas, Business Plans, Forward-Looking, Venture Capital, Widely Applicable, High-Growth Entrepreneurship, National Competitiveness, and Next Generation Solutions.

When uploading your “America's Seed Fund” Logo design, in the “Submission Text” field please also include a brief description about your logo entry and thought process behind the design—how it relates to the SBIR/STTR Programs as “America's Seed Fund”.

4. Prizes for Winners: The winning contestant's design will become the official logo for the SBIR/STTR Programs, the Programs' Web site at sbir.gov, and any official SBA, SBIR Program and/or STTR Program purpose. The winning contestant will be invited to an unveiling of the winning logo design during a White House ceremony honoring the 2015 Tibbetts Award and SBIR Hall of Fame winners in Washington, DC, on June 15, 2015. The winning contestant will receive a congratulatory letter with winning design logo from SBA Administrator Maria Contreras-Sweet. The winning contestant and winning logo design will also be recognized during the National SBIR Conference, June 15-17, 2015, in National Harbor, MD. Any and all associated travel costs will be the sole responsibility of the winning contestant.

5. Selection of Winners: SBA will select a judging panel that will consist of SBA officials, Program Managers of the SBIR/STTR participating Federal agencies, and at least one official from the National Endowment for the Arts. Judges will be fair and impartial. A judge may not have a familial or financial relationship with an individual who is a registered contestant in the competition. Judges will fully comply with all applicable government ethics requirements for Federal employees.

Judges will use the following criteria to judge the submitted designs:

(a) Design relates to the SBIR/STTR Programs as “America's Seed Fund”. The subjects and ideas of small business, innovation, technological advancement, commercialization, and research and development need to be conveyed in the design of the logo. This may be done through a realistic or abstract design.

(b) Creativity and originality. Is the visual quality of the design at once informative and representative of imagery connected to the SBIR/STTR Programs?

(c) Design can be easily replicated. Can this design be replicated successfully, without excessive cost, for many media formats?

The judging panel will evaluate the submissions and select up to ten logos to recommend to the SBA Administrator, who will choose the final winning design from all submissions, including the up to ten logos recommended to the SBA Administrator by the judging panel. All judging will take place between approximately May 19, 2015, and approximately May 29, 2015. SBA will publicly announce the winner and unveil the winning logo on June 15, 2015. For questions or further information, please see the contact information listed above.

6. Applicable Law: This design competition is being conducted by SBA pursuant to the America Competes Act (15 U.S.C. 3719) and is subject to all applicable federal laws and regulations. By participating in this design competition, each contestant gives its full and unconditional agreement to the Official Rules and the related administrative decisions described in this notice, which are final and binding in all matters related to the design competition. A contestant's eligibility for a prize award is contingent upon their fulfilling all requirements identified in this notice. Publication of this notice is not an obligation of funds on the part of SBA. SBA reserves the right to modify or cancel this design competition, in whole or in part, at any time prior to the award of prizes.

7. Conflicts of Interest: No individual acting as a judge at any stage of this design competition may have personal or financial interests in, or be an employee, officer, director, or agent of any contestant or have a familial or financial relationship with a contestant.

8. Intellectual Property Rights:

(a) By submitting a design to this competition, you represent and warrant that you are the sole author and owner of the submitted design. Designs must be your original work, and must not violate or infringe the rights of other parties, including but not limited to privacy, publicity, or intellectual property rights, or material that constitutes copyright or license infringement. Your design may not contain any material that is inappropriate, indecent, obscene, hateful, defamatory, or in any way disparaging. Your design cannot have been submitted previously in another promotion or contest of any kind.

(b) You understand and agree that if your entry is selected as the winning design, it may be modified or altered by SBA, in its sole discretion, as deemed appropriate or necessary to execute, produce, or distribute the winning design in its final logo format.

(c) The winning contestant will, in consideration of the prize to be awarded, grant to SBA an irrevocable, royalty-free, exclusive worldwide license to reproduce, distribute, copy, display, create derivative works, and publicly post, link to, and share, the winning design or parts thereof, for the purpose of the design competition and for any official SBA, SBIR Program and/or STTR Program purpose.

9. Publicity Rights: By registering and entering a submission, each contestant consents to SBA's and its agents' use, in perpetuity, of its name, likeness, photograph, voice, opinions, and/or hometown and state information for promotional or informational purposes through any form of media, worldwide, without payment or consideration.

10. Liability and Insurance Requirements: (a) By registering and entering a submission, each contestant agrees to assume any and all risks and waive claims against the Federal Government and its related entities, except in the case of willful misconduct, for any injury, death, damage, or loss of property, revenue, or profits, whether direct, indirect, or consequential, arising from their participation in this competition, whether the injury, death, damage, or loss arises through negligence or otherwise.

(b) By participating in this competition, you agree to indemnify the Federal government against third party claims for damages arising from or related to competition activities.

(c) By registering and entering a submission, each contestant further represents and warrants that it possesses sufficient liability insurance or financial resources to cover claims by a third party for death, bodily injury, or property damage or loss resulting from any activity it carries out in connection with its participation in this competition, or claims by the Federal Government for damage or loss to Government property resulting from such an activity. Challenge winners should be prepared to demonstrate proof of insurance or financial responsibility in the event SBA deems it necessary.

11. Record Retention and Disclosure: All submissions and related materials provided to SBA in the course of this Competition automatically become SBA records and cannot be returned.

Award Approving Official: Javier Saade, Associate Administrator, Office of Investment and Innovation, U.S. Small Business Administration, 409 Third Street SW., Washington, DC 20416.

Authority: Pub. L. 111-358 (2011).

Dated: April 29, 2015.
Javier Saade,
Associate Administrator, Office of Investment and Innovation.

[FR Doc. 2015-10428 Filed 5-4-15; 8:45 a.m.]

BILLING CODE 8025-01-P